DEPARTMENT OF ENERGY

Federal Energy Regulatory Commission

Combined Notice of Filings

May 5, 2009.

Take notice that the Commission has received the following Natural Gas Pipeline Rate and Refund Report filings:

Docket Numbers: RP09-61-006.

Applicants: Gulf Crossing Pipeline Company LLC.

Description: Gulf Crossing Pipeline Company LLC submits amendments to interim negotiated rate agreements and negotiated rate agreements etc.

Filed Date: 05/01/2009.

Accession Number: 20090504-0100.

Comment Date: 5 p.m. Eastern Time on Wednesday, May 13, 2009.

Docket Numbers: RP96-200-211.

Applicants: CenterPoint Energy Gas Transmission Company.

Description: CenterPoint Energy Gas Transmission Company submits negotiated rate agreement between CEGT and Shell Energy North America, LP.

Filed Date: 05/01/2009.

Accession Number: 20090504-0099.

Comment Date: 5 p.m. Eastern Time on Wednesday, May 13, 2009.

Docket Numbers: RP96-200-212.

Applicants: CenterPoint Energy Gas Transmission Co.

Description: CenterPoint Energy Gas Transmission Co submits a negotiated rate agreement with Oneok Energy Service Company, LP.

Filed Date: 05/01/2009.

Accession Number: 20090504-0197.

Comment Date: 5 p.m. Eastern Time on Wednesday, May 13, 2009.

Docket Numbers: RP97-28-023.

Applicants: Wyoming Interstate Company, Ltd.

Description: Wyoming Interstate Company, Ltd submits Fifth Revised Sheet 105 to its FERC Gas Tariff, Second Revised Volume 1, to be effective 6/1/09.

Filed Date: 05/01/2009.

Accession Number: 20090504-0131.

Comment Date: 5 p.m. Eastern Time on Wednesday, May 13, 2009.

Docket Numbers: RP00-426-045.

Applicants: Texas Gas Transmission, LLC.

Description: Texas Gas Transmission, LLC submits First Revised Sheet 58 et al to its FERC Gas Tariff, Third Revised Volume 1, to be effective 5/1/09.

Filed Date: 05/01/2009.

Accession Number: 20090504-0127.

Comment Date: 5 p.m. Eastern Time on Wednesday, May 13, 2009.

Docket Numbers: RP00-426-046.

Applicants: Texas Gas Transmission, LLC.

Description: Texas Gas Transmission, LLC submits First Revised Sheet 61 et al to its FERC Gas Tariff, Third Revised Volume 1, to be effective 5/1/09.

Filed Date: 05/01/2009.

Accession Number: 20090504-0128.

Comment Date: 5 p.m. Eastern Time on Wednesday, May 13, 2009.

Docket Numbers: RP09-461-001.

Applicants: Dominion Transmission, Inc.

Description: Dominion Transmission, Inc. submits a revised Service Agreements with Baltimore Gas and Electric Company Contract 300184 and FT Contract 200526 in compliance with FERC's 4/17/09 Order.

Filed Date: 05/01/2009.

Accession Number: 20090504-0129.

Comment Date: 5 p.m. Eastern Time on Wednesday, May 13, 2009.

Docket Numbers: RP09-490-001.

Applicants: Columbia Gas Transmission, LLC.

Description: Columbia Gas Transmission, LLC submits First Revised Sheet 517.01 to its FERC Gas Tariff, Third Revised Volume 1, to be effective 6/1/09.

Filed Date: 05/01/2009.

Accession Number: 20090504-0130.

Comment Date: 5 p.m. Eastern Time on Wednesday, May 13, 2009.

Docket Numbers: RP09-559-000.

Applicants: Destin Pipeline Company, L.L.C.

Description: Destin Pipeline Co, LLC submits Fourth Revised Sheet No. 4 to FERC Gas Tariff, Original Volume No. 1 to be effective 6/1/09.

Filed Date: 05/01/2009.

Accession Number: 20090501-0134.

Comment Date: 5 p.m. Eastern Time on Wednesday, May 13, 2009.

Docket Numbers: RP09-563-000.

Applicants: MIGC LLC.

Description: MIGC LLC submits First Revised Sheet No 84 et al to its FERC Gas Tariff, Second Revised Volume No 1, to be effective 5/31/09.

Filed Date: 05/01/2009.

Accession Number: 20090504-0092.

Comment Date: 5 p.m. Eastern Time on Wednesday, May 13, 2009.

Docket Numbers: RP09-564-000.

Applicants: Empire Pipeline, Inc.

Description: Empire Pipeline, Inc submits First Revised Sheet 9 et al to FERC Gas Tariff, Original Volume 1, and FT Service Agreement F11410 with Macquarie Cook Energy, LLC, to be effective 5/1/09.

Filed Date: 05/01/2009.

Accession Number: 20090504-0093.

Comment Date: 5 p.m. Eastern Time on Wednesday, May 13, 2009.

Docket Numbers: RP09-565-000.

Applicants: Gulfstream Natural Gas System, L.L.C.

Description: Gulfstream Natural Gas System, LLC submits Tenth Revised Sheet No 7 to its FERC Gas Tariff, Original Volume No 1, to be effective 6/1/09.

Filed Date: 05/01/2009.

Accession Number: 20090504-0094.

Comment Date: 5 p.m. Eastern Time on Wednesday, May 13, 2009.

Docket Numbers: RP09-566-000.

Applicants: Cheyenne Plains Gas Pipeline Company.

Description: Cheyenne Plains Gas Pipeline Company, LLC submits Eighth Revised Sheet No 20 to its FERC Gas Tariff, Original Volume No 1, to be effective 6/1/09.

Filed Date: 05/01/2009.

Accession Number: 20090504-0095.

Comment Date: 5 p.m. Eastern Time on Wednesday, May 13, 2009.

Docket Numbers: RP09-567-000.

Applicants: ANR Pipeline Company.

Description: ANR Pipeline Company submits Fifth First Revised Sheet No 117 to its FERC Gas Tariff, Second Revised Volume No 1, to be effective 6/1/09.

Filed Date: 05/01/2009.

Accession Number: 20090504-0096.

Comment Date: 5 p.m. Eastern Time on Wednesday, May 13, 2009.

Docket Numbers: RP09-568-000.

Applicants: Williston Basin Interstate Pipeline Company.

Description: Williston Basin Interstate Pipeline Company submits Eighth Revised Sheet No 176 et al. to its FERC Gas Tariff, Second Revised Volume No 1, to be effective 6/1/09.

Filed Date: 05/01/2009.

Accession Number: 20090504-0097.

Comment Date: 5 p.m. Eastern Time on Wednesday, May 13, 2009.

Docket Numbers: RP09-569-000.

Applicants: Northern Natural Gas Company.

Description: Northern Natural Gas Company submits 31 Revised Sheet No 54 et al. to its FERC Gas Tariff, Fifth Revised Volume No 1, to be effective 11/1/09.

Filed Date: 05/01/2009.

Accession Number: 20090504-0091.

Comment Date: 5 p.m. Eastern Time on Wednesday, May 13, 2009.

Docket Numbers: RP09-570-000.

Applicants: Midcontinent Express Pipeline LLC.

Description: Midcontinent Express Pipeline, LLC submits amendments to existing negotiated rate Transportation Rate Schedule FTS Agreement with Chesapeake Energy Marketing, Inc et al.

Filed Date: 05/01/2009.

Accession Number: 20090504-0132.

Comment Date: 5 p.m. Eastern Time on Wednesday, May 13, 2009.

Docket Numbers: RP09-571-000.

Applicants: ANR Pipeline Company.

Description: Request for Extension of Time to File Updated System Maps of ANR Pipeline Company.

Filed Date: 04/30/2009.

Accession Number: 20090430-5471.

Comment Date: 5 p.m. Eastern Time on Tuesday, May 12, 2009.

Docket Numbers: RP09-572-000.

Applicants: Dominion Transmission, Inc.

Description: Dominion Transmission, Inc submits Sixteenth Revised Sheet 1300 et al. to its FERC Gas Tariff, Third Revised Volume 1.

Filed Date: 05/01/2009.

Accession Number: 20090504-0133.

Comment Date: 5 p.m. Eastern Time on Wednesday, May 13, 2009.

Docket Numbers: RP09-573-000.

Applicants: Northwest Pipeline GP.

Description: Northwest Pipeline, GP submits for acceptance Third Revised Sheet 396 et al. to its FERC Gas Tariff, Fourth Revised Volume 1.

Filed Date: 05/01/2009.

Accession Number: 20090504-0134.

Comment Date: 5 p.m. Eastern Time on Wednesday, May 13, 2009.

Docket Numbers: RP09-574-000.

Applicants: Colorado Interstate Gas Company.

Description: Colorado Interstate Gas Company submits Seventeenth Revised Sheet 1 et al to FERC Gas Tariff, First Revised Volume 1, to be effective 6/1/09.

Filed Date: 05/01/2009.

Accession Number: 20090504-0145.

Comment Date: 5 p.m. Eastern Time on Wednesday, May 13, 2009.

Docket Numbers: RP09-575-000.

Applicants: ANR Pipeline Company.

Description: Operations Purchases and Sales Report of ANR Pipeline Company.

Filed Date: 04/30/2009.

Accession Number: 20090430-5473.

Comment Date: 5 p.m. Eastern Time on Tuesday, May 12, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E9-10833 Filed 5-8-09; 8:45 am]

BILLING CODE 6717-01-P